ENVIRONMENTAL PROTECTION AGENCY

[EPA-HQ-OPP-2010-0014; FRL-9393-7]

Product Cancellation Order for Certain Pesticide Registrations; Correction

AGENCY: Environmental Protection Agency (EPA).

ACTION: Notice; correction.

SUMMARY: EPA issued a notice in the Federal Register issue of June 26, 2013, concerning EPA's order for the cancellation of certain pesticide registrations. This document is being issued to correct the effective date of the cancellations of only the resmethrin products identified in that June 26, 2013 notice.

FOR FURTHER INFORMATION CONTACT: Katherine St. Clair, Pesticide Re-Evaluation Division (7508P), Office of Pesticide Programs, Environmental Protection Agency, 1200 Pennsylvania Ave. NW., Washington, DC 20460-0001; telephone number: (703) 347-8778; email address: stclair.katherine@epa.gov.

SUPPLEMENTARY INFORMATION:

I. General Information

A. Does this action apply to me?

The Agency included in the June 26, 2013 notice a list of those who may be potentially affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Doc. 2013-15320 published in the Federal Register issue of June 26, 2013 (78 FR 38326) (FRL-9390-4) is corrected as follows:

1. On page 38326, first column, under the caption SUMMARY, in the third sentence, “November 28, 2013” is corrected to read: “November 28, 2012.”

2. On page 38326, second column, the DATES caption is corrected to read: “DATES: The cancellations of the product registrations in Table 1a of Unit II. of the SUPPLEMENTARY INFORMATION are effective June 26, 2013. The cancellations of the product registrations in Table 1b of Unit II. of the SUPPLEMENTARY INFORMATION are effective December 31, 2015.”

3. On page 38327, first column, under Unit IV. Cancellation Order, in paragraph 1, remove the third sentence and add in its place: “The cancellations of the product registrations in Table 1a of Unit II. are effective June 26, 2013. The cancellations of the product registrations in Table 1b of Unit II. are effective December 31, 2015.”

List of Subjects

Environmental protection, Pesticides and pests.

Dated: July 19, 2013.
Michael Goodis,
Acting Director, Pesticide Re-Evaluation Division, Office of Pesticide Programs.

[FR Doc. 2013-18179 Filed 7-30-13; 8:45 am]

BILLING CODE 6560-50-P